DEPARTMENT OF COMMERCE

National Oceanic and Atmospheric Administration

50 CFR Part 679

[I.D. 121701E]

Fisheries of the Exclusive Economic Zone off Alaska; Bycatch Rate Standards for the First Half of 2002

AGENCY: National Marine Fisheries Service (NMFS), National Oceanic and Atmospheric Administration (NOAA), Commerce.

ACTION: Pacific halibut and red king crab bycatch rate standards; request for comments.

SUMMARY: NMFS announces Pacific halibut and red king crab bycatch rate standards for the first half of 2002. Publication of these bycatch rate standards is necessary under regulations implementing the vessel incentive program (VIP). This action is necessary to implement the bycatch rate standards for trawl vessel operators who participate in the Alaska groundfish trawl fisheries. The intent of this action is to avoid excessive prohibited species bycatch rates and promote conservation of groundfish and other fishery resources.

DATES: Effective 1200 hours, Alaska local time (A.l.t.), January 20, 2002, through 2400 hours, A.l.t., June 30, 2002. Comments on this action must be received at the following address no later than 4:30 p.m., A.l.t., February 7, 2002.

ADDRESSES: Comments may be submitted to Sue Salveson, Assistant Regional Administrator, Sustainable Fisheries Division, Alaska Region, NMFS, P.O. Box 21668, Juneau, AK 99802-1668, Attn: Lori Gravel. Comments also may be sent via facsimile (fax) to 907-586-7465. Comments will not be accepted if submitted via e-mail or Internet. Courier or hand delivery of comments may be made to NMFS in the Federal Building, Room 453, Juneau, AK 99801.

FOR FURTHER INFORMATION CONTACT: Mary Furuness, 907-586-7228, fax 907-586-7465, e-mail mary.furuness@noaa.gov.

SUPPLEMENTARY INFORMATION: The domestic groundfish fisheries in the exclusive economic zone of the Bering Sea and Aleutian Islands management area (BSAI) and Gulf of Alaska (GOA) are managed by NMFS according to the Fishery Management Plan for the Groundfish Fishery of the Bering Sea and Aleutian Islands Area and the Fishery Management Plan for Groundfish of the Gulf of Alaska (FMPs). The FMPs were prepared by the North Pacific Fishery Management Council (Council) under the authority of the Magnuson-Stevens Fishery Conservation and Management Act (Magnuson-Stevens Act) and are implemented by regulations governing the U.S. groundfish fisheries at 50 CFR part 679.

Regulations at § 679.21(f) implement a vessel incentive program to reduce halibut and red king crab bycatch rates in the groundfish trawl fisheries. Under the incentive program, operators of trawl vessels must not exceed Pacific halibut bycatch rate standards specified for the BSAI and GOA midwater pollock and “other trawl” fisheries, and the BSAI yellowfin sole and “bottom pollock” fisheries. Vessel operators also must not exceed red king crab bycatch rate standards specified for the BSAI yellowfin sole and “other trawl” fisheries in Bycatch Limitation Zone 1 (defined in § 679.2). The fisheries included under the incentive program are defined in regulations at § 679.21(f)(2).

Regulations at § 679.21 (f)(3) require that halibut and red king crab bycatch rate standards for each fishery included under the incentive program be published in the Federal Register. The standards are in effect for specified seasons within the 6-month periods of January 1 through June 30, and July 1 through December 31. Because the Alaskan groundfish fisheries are closed to trawling from January 1 to January 20 of each year (§ 679.23 (c)), the Administrator, Alaska Region, NMFS (Regional Administrator), is promulgating bycatch rate standards for the first half of 2002 effective from January 20, 2002, through June 30, 2002.

As required by § 679.21 (f)(4), bycatch rate standards are based on the following information:

(A) Previous years' average observed bycatch rates;

(B) Immediately preceding season's average observed bycatch rates;

(C) The bycatch allowances and associated fishery closures specified under §§ 679.21(d) and (e);

(D) Anticipated groundfish harvests for that fishery;

(E) Anticipated seasonal distribution of fishing effort for groundfish; and

(F) Other information and criteria deemed relevant by the Regional Administrator.

At the October 2001 Council meeting, NMFS staff presented an analysis of recent bycatch rates of Pacific halibut and red king crab in the groundfish trawl fisheries to provide the Council with a basis for setting bycatch rate standards for the first half of 2002. The analysis showed that since 1999, actual bycatch rates experienced by vessels participating in the groundfish trawl fisheries were lower than the established bycatch rate standards with the exception of vessels participating in the BSAI yellowfin sole and the GOA “other trawl” fisheries. Based on this information, NMFS suggested to the Council that an upward adjustment of the bycatch rate standard in the yellowfin sole fishery may be warranted and that downward adjustments of the halibut bycatch rate standards in the BSAI and GOA midwater pollock fisheries and the red king crab bycatch rate standards in the BSAI yellowfin sole and “other trawl” fisheries may be warranted. Specifically, for the BSAI yellowfin sole fishery, the analysis indicated that an increase of the halibut bycatch rate standard to 15 kg/mt of groundfish would encompass 73 percent of the vessels participating in the yellowfin sole fishery. For the BSAI and GOA midwater fisheries, the analysis indicated that a decrease of the halibut bycatch rate standard to 0.5 kg/mt of groundfish would encompass 99 percent of the vessels participating in the BSAI midwater pollock fishery and 90 percent of the vessels in the GOA midwater pollock fishery. Finally, for the BSAI yellowfin sole fishery and “other trawl” fisheries, the analysis indicated that a decrease of the BSAI Zone 1 red king crab bycatch rate standard to 1.0 kg/mt of groundfish would encompass 82 percent of the vessels participating in the BSAI yellowfin sole fishery and 92 percent of the vessels participating in the BSAI “other trawl” fishery.

The Advisory Panel recommendation and public testimony did not agree. The public testified that upward adjustments of the rates appeared to reward violators of the rates while downward adjustments appeared to penalize fishermen for their effort in avoiding prohibited species. The public also testified that the Council should pursue the development of alternative incentive programs such as an individual vessel bycatch allowance or similar program in which the costs or benefits of excess or reduced bycatch would be limited to the vessel conducting the fishing.

After considering public testimony, the Council recommended that the same rates used in the first half of 2001 be used for the first half of 2002. Further, the Council requested that NMFS consider the effects of observer sampling procedures and changing fishing practices due to the American Fisheries Act, improved retention/improved utilization, and Steller sea lion protection measures on prohibited species bycatch rates. Until such an assessment is conducted, the Council recommended that the existing bycatch rate standards adequately meet the intent of the VIP. The Council's recommended bycatch rate standards are listed in Table 1.

TABLE 1—BYCATCH RATE STANDARDS, BY FISHERY AND QUARTER, FOR THE FIRST HALF OF 2002 FOR PURPOSES OF THE VESSEL INCENTIVE PROGRAM IN THE BSAI AND GOA.
Fishery and quarter | 2002 bycatch rate standard
Halibut bycatch rate standards (kilogram (kg) of halibut/metric ton (mt) of groundfish catch
BSAI Midwater pollock |
Qt 1 | 1.0
Qt 2 | 1.0
BSAI Bottom pollock |
Qt 1 | 5.0
Qt 2 | 5.0
BSAI Yellowfin sole |
Qt 1 | 5.0
Qt 2 | 5.0
BSAI Other trawl |
Qt 1 | 30.0
Qt 2 | 30.0
GOA Midwater pollock |
Qt 1 | 1.0
Qt 2 | 1.0
GOA Other trawl |
Qt 1 | 40.0
Qt 2 | 40.0
Zone 1 red king crab bycatch rate standards (number of crab/mt of groundfish catch)
BSAI yellowfin sole |
Qt 1 | 2.5
Qt 2 | 2.5
BSAI Other trawl |
Qt 1 | 2.5
Qt 2 | 2.5

Bycatch Rate Standards for Pacific Halibut

In 2001, BSAI pollock combined A/B season was January 20 through June 10. In 2001, the inshore and offshore component fisheries for pollock ended 6 to 10 weeks prior to June 10, depending on the processing component and area. Directed fishing for pollock by the inshore and offshore component fisheries reopened June 10, the start of the 2001 pollock combined C/D season. Also, the community development quota pollock fishery ended 7 weeks before the end of the combined A/B season and did not resume until mid-June. In 2002, the proposed A season allowance for Bering Sea pollock (60 percent of the directed fishing allowance) would be available January 20 through June 10, with the remainder available June 10 through November 1. As in past years, the directed fishing allowances specified for the first 2002 pollock season likely will be reached before June 10.

As in past years, the halibut bycatch rate standard recommended for the BSAI and GOA midwater pollock fisheries (1 kg halibut/mt of groundfish) is higher than the bycatch rates normally experienced by vessels participating in these fisheries. The average halibut bycatch rates for the BSAI 2001 first and second calendar quarter fisheries are equal to 0.13 and 0.15 kg halibut/mt groundfish, respectively, and the average halibut bycatch rates for the GOA 2001 first and second calendar quarter fisheries are equal to 0.36 and 0.17 kg halibut/mt groundfish, respectively. The recommended standard is intended to encourage vessel operators to maintain off-bottom trawl operations.

Since 1999, the use of nonpelagic trawl gear has been prohibited in the BSAI non-CDQ directed pollock fishery (§ 679.24 (b)(4)). Even with this prohibition, a vessel using pelagic trawl gear may be assigned to the BSAI bottom pollock fishery defined at § 679.21 (f)(2) because assignment to a fishery for purposes of the VIP is based on retained catch composition during a weekly period instead of gear type. If the majority of the catch is pollock, but pollock comprises less than 95 percent of the catch, then a haul is assigned to the BSAI bottom pollock fishery. The prohibition on the use of nonpelagic trawl gear has reduced the number of hauls assigned to the BSAI bottom pollock fishery. Since the prohibition became effective, the halibut bycatch rates for this fishery are low compared to the halibut bycatch rate standards established for this fishery with an average halibut bycatch rate for the 2001 first and second calendar quarter fisheries equal to 0.89 and 1.89 kg halibut/mt groundfish, respectively.

Other factors that could affect the spatial and temporal distribution of the directed pollock fishery include the allocations of pollock among the inshore and offshore fleets under the American Fisheries Act and the implementation of conservation measures that are necessary under the Endangered Species Act to mitigate pollock fishery impacts on Steller sea lions. At this time, the effects of these changes on halibut bycatch rates in the pollock fishery are unknown.

Data available on halibut bycatch rates in the BSAI yellowfin sole fishery during the first and second quarters of 2001 showed an average bycatch rate of 19.74 and 18.54 kg halibut/mt of groundfish, respectively. These rates are significantly higher than in past years. One explanation of relatively higher rates might include changes in the physical or biological conditions driving the rate of bycatch in the yellowfin sole fishery. A second explanation might be that vessels are using larger mesh gear to reduce discards and comply with increased retention/utilization standards for pollock and Pacific cod. A third explanation might be that with the decline of trawl Pacific cod catch, halibut mortality historically assigned to the trawl Pacific cod target has not been used by that fishery and instead has been made available to the flatfish fisheries. The availability of “extra” halibut mortality could allow vessels catching flatfish to be less concerned about avoiding halibut bycatch. Thus, although the amount of groundfish catch may be decreased in a haul, the amount of halibut retained in the net may remain the same and result in an increase in the bycatch rate of halibut. The Council’s recommendation to use the same bycatch rates in 2002 as was used in 2001 should work as a deterrent to these higher rates given the explanation that increased bycatch rates caused by the perception of “extra” halibut and is consistent with the intent of the VIP in that vessels should avoid halibut bycatch regardless of whether there is more halibut bycatch available to a fishery.

For the “other trawl” fisheries, the Council supported a 30 kg halibut/mt of groundfish bycatch rate standard for the BSAI and a 40 kg halibut/mt of groundfish bycatch rate standard for the GOA. Observer data collected from the 2001 BSAI “other trawl” fishery show first and second quarter halibut bycatch rates of 11.02 and 23.79 kg halibut/mt of groundfish, respectively. Observer data collected from the 2001 GOA “other trawl” fishery show first and second quarter halibut bycatch rates of 10.89 and 56.84 kg halibut/mt of groundfish, respectively.

Since 1997, with the exception of the GOA second quarter “other trawl” fishery, the average bycatch rates experienced by vessels participating in the GOA and BSAI “other trawl” fisheries have been lower than the specified bycatch rate standards for these fisheries. The Council and NMFS have determined that the recommended halibut bycatch rate standards for the “other trawl” fisheries, including the second quarter GOA fishery, would continue bycatch rate standards that represent an acceptable level of halibut bycatch in these fisheries and will encourage vessel operators to avoid high halibut bycatch rates while participating in these fisheries. Furthermore, these standards will provide some leniency to those vessel operators who choose to use large mesh trawl gear or other device as a means to reduce groundfish discard amounts or are forced to fish in different seasons or fishing grounds under measures implemented to mitigate fishing impacts on Steller sea lions and their critical habitat.

Bycatch Rate Standards for Red King Crab

For the BSAI yellowfin sole and “other trawl” fisheries in Zone 1 of the Bering Sea subarea, the Council's recommended red king crab bycatch rate standard is 2.5 crab/mt of groundfish. This standard is unchanged since 1992. The red king crab bycatch rates experienced by the BSAI yellowfin sole fishery in Zone 1 during the first and second quarters of 2001 averaged 0.57 and 0.08 crab/mt of groundfish, respectively. Although these rates are lower than the standards, the first quarter’s rate is higher than bycatch rates experienced in previous years. The average bycatch rates of red king crab experienced in the BSAI “other trawl” fishery during the first and second quarters of 2001 were 0.09 and 0.00 crab/mt groundfish, respectively. The low 2001 red king crab bycatch rates primarily were due to trawl closures in Zone 1 that were implemented to reduce red king crab bycatch.

For the period January through October 2001, the total bycatch of red king crab by trawl vessels fishing in Zone 1 is estimated at 32,856 crab, considerably less than the 97,000 red king crab bycatch limit established for the trawl fisheries in Zone 1. NMFS anticipates that the 2002 red king crab bycatch in Zone 1 will be similar to 2001 because the crab bycatch reduction measures will remain the same.

In spite of anticipated 2001 red king crab bycatch rates being significantly lower than 2.5 red king crab/mt of groundfish, the Council recommended the red king crab bycatch rate standards be maintained at these levels. These levels continue to provide protection against unacceptably high rates of bycatch in these fisheries while providing some leniency to those vessel operators who choose to use large mesh trawl gear as a means to reduce groundfish discard amounts.

The Regional Administrator has determined that the recommended bycatch rate standards are appropriately based on the information and considerations necessary for such determinations under § 679.21 (f). Therefore, the Regional Administrator establishes the halibut and red king crab bycatch rate standards for the first half of 2002 as set forth in Table 1. These bycatch rate standards may be revised and these revisions published in the Federal Register when deemed appropriate by the Regional Administrator pending his consideration of the information set forth at § 679.21 (f)(4).

As required in regulations at §§ 679.2 and 679.21 (f)(5), the 2002 fishing months are specified as the following periods for purposes of calculating vessel bycatch rates under the incentive program:

Month 1: January 1 through February 2;

Month 2: February 3 through March 2;

Month 3: March 3 through March 30;

Month 4: March 31 through April 27;

Month 5: April 28 through June 1;

Month 6: June 2 through June 29;

Month 7: June 30 through August 3;

Month 8: August 4 through August 31;

Month 9: September 1 through September 28;

Month 10: September 29 through November 2;

Month 11: November 3 through November 30; and

Month 12: December 1 through December 31.

Classification

This action is taken under 50 CFR 679.21(f) and is exempt from OMB review under Executive Order 12866.

Authority: 16 U.S.C. 773 et seq., 1801 et seq. and 3631 et seq.

Dated: January 3, 2002.
Bruce C. Morehead,
Acting Director, Office of Sustainable Fisheries, National Marine Fisheries Service.

[FR Doc. 02-552 Filed 1-8-02; 8:45 am]

BILLING CODE 3510-22-S